DEPARTMENT OF ENERGY

10 CFR Part 1021

Request for Information Regarding Categorical Exclusions

AGENCY: Department of Energy.

ACTION: Request for information; re-opening of public comment period.

SUMMARY: On November 15, 2022, the U.S. Department of Energy (DOE) published a request for information to help inform potential updates to categorical exclusions in its regulations implementing the National Environmental Policy Act (NEPA). Through the request for information, DOE sought recommendations and supporting information from interested individuals and organizations on establishing new categorical exclusions and revising existing ones. In response to public request, DOE is re-opening the comment period for 30 days to allow interested parties additional time to provide input.

DATES: The comment period for the request for information, published on November 15, 2022 (87 FR 68385), which closed on December 30, 2022, is hereby reopened. Responses should be submitted by February 13, 2023.

ADDRESSES: Submit comments, labeled “DOE NEPA RFI,” via https://www.regulations.gov. This request for information is assigned Docket ID: DOE-HQ-2023-0002. Follow the online instructions for submitting comments electronically. Alternatively, responses to this request for information may be submitted by email to doe-nepa-rulemaking@hq.doe.gov. There is no need to submit comments using both methods.

FOR FURTHER INFORMATION CONTACT: For further information on submitting responses, contact Carrie Abravanel, Office of NEPA Policy and Compliance (GC-54), 202-586-8397, Carrie.Abravanel@hq.doe.gov.

SUPPLEMENTARY INFORMATION: DOE published a request for information on November 15, 2022 (87 FR 68385) that started a 45-day comment period (ending December 30, 2022). DOE is considering revisions to ensure that its NEPA reviews are aligned with the latest DOE programs and initiatives for clean energy and electricity transmission projects, fully consider potential environmental impacts and community concerns, and are efficient and effective at informing DOE decisions. In the request for information, DOE sought recommendations and supporting information from interested individuals and organizations on establishing new categorical exclusions and revising existing ones. Through the request for information, interested parties were invited to:

• Identify a specific category of actions related to clean energy projects and clean energy infrastructure that is not covered by existing DOE categorical exclusions, but that is likely to meet the standard of not having a significant effect on the human environment; and

• Provide suggestions for revising DOE's existing categorical exclusions related to clean energy projects and clean energy infrastructure.

In response to public request, DOE has determined that re-opening the public comment period is appropriate to allow interested parties additional time to submit comments for DOE's consideration. Therefore, DOE is re-opening the comment period for an additional 30 days. Please see the November 15, 2022, request for information for additional background information and instructions on providing comments. That request for information is available at https://www.energy.gov/nepa/articles/request-information-regarding-categorical-exclusions-2022.

How should information be provided?

Responses should be submitted to doe-nepa-rulemaking@hq.doe.gov by February 13, 2023. Submitted information will be included in the public record of any associated rulemaking, should DOE decide to undertake revisions to its NEPA regulations.

Confidential Business Information: Pursuant to 10 CFR 1004.11, any person submitting information that he or she believes to be confidential and exempt by law from public disclosure should submit via email two well-marked copies: one copy of the document marked “confidential” including all the information believed to be confidential, and one copy of the document marked “non-confidential” with the information believed to be confidential deleted. Submit these documents via email. DOE will make its own determination about the confidential status of the information and treat it according to its determination.

Signing Authority

This document of the Department of Energy was signed on January 6, 2023, by Samuel Walsh, General Counsel, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, January 6, 2023.
Treena V. Garrett,
Federal Register Liaison Officer, U.S. Department of Energy.

[FR Doc. 2023-00430 Filed 1-11-23; 8:45 am]

BILLING CODE 6450-01-P